NATIONAL LABOR RELATIONS BOARD

Public Availability of National Labor Relations Board FY 2014 Service Contract Inventory

AGENCY: National Labor Relations Board.

ACTION: Notice.

SUMMARY: In accordance with Section 743 of Division C of the Consolidated Appropriations Act of 2010 (Pub. L. 111-117), the National Labor Relations Board is publishing this notice to advise the public of the availability of the FY 2014 Service Contract Inventory. This inventory provides information on service contract actions over $25,000 that were made in FY 2014. The information is organized by function to show how contracted resources are distributed throughout the Agency. The inventory has been developed in accordance with guidance issued by the Office of Management and Budget's Office of Federal Procurement Policy (OFPP), Service Contract Inventories (December 19, 2011). The National Labor Relations Board has posted its inventory and a summary of the inventory on the NLRB's homepage at the following link: http://www.nlrb.gov/reports-guidance/reports/service-contract-inventories.

FOR FURTHER INFORMATION CONTACT: Christopher Henshaw, Director of Acquisitions, 202-273-4047, Christopher.Henshaw@nlrb.gov.

Dated: June 2, 2015.
William B. Cowen,
Solicitor.

[FR Doc. 2015-13843 Filed 6-5-15; 8:45 am]

BILLING CODE 7545-01-P